Title 3—

The President

Proclamation 8243 of April 22, 2008

Older Americans Month, 2008

By the President of the United States of America

A Proclamation

During Older Americans Month, we recognize the many ways older citizens have enriched our Nation through their character, wisdom, and love.

Our country remains strong because of the foundation our elders have helped lay. This year's Older Americans Month theme, “Working Together for Strong, Healthy, and Supportive Communities,” highlights the importance of building partnerships to ensure that older Americans are able to live with dignity and independence.

Every week thousands of older Americans give back to their communities by volunteering through groups like Senior Corps. From teaching young children how to read, to helping provide relief to those affected by natural disasters, seniors play an important and compassionate role in our Nation.

My Administration is dedicated to ensuring that our seniors are treated with the respect they have earned. They deserve to have choices and access to the best possible health care, so we have added new preventive care measures and prescription drug benefits as part of our effort to modernize Medicare and make medication more affordable. In this way and many others, our country honors our elders' legacy and recognizes their countless contributions to our Nation.

America's seniors provide an example for younger generations, and during Older Americans Month, we reflect on their efforts toward building a stronger and brighter future for all. Our country remains forever in their debt, as they have provided a guiding light for the rest of the Nation to follow.

NOW, THEREFORE, I, GEORGE W. BUSH, President of the United States of America, by virtue of the authority vested in me by the Constitution and laws of the United States, do hereby proclaim May 2008 as Older Americans Month. I commend older Americans for the many contributions they have made and continue to make to our Nation. I also commend the Federal, State, local, and tribal organizations, service and health care providers, caregivers, and volunteers who dedicate their time and talents to our seniors. I encourage all citizens to honor their elders, care for those in need, and reaffirm our country's commitment to older Americans this month and throughout the year.

IN WITNESS WHEREOF, I have hereunto set my hand this twenty-second day of April, in the year of our Lord two thousand eight, and of the Independence of the United States of America the two hundred and thirty-second.

[FR Doc. 08-1192

Filed 4-24-08; 9:11 am]

Billing code 3195-01-P